DEPARTMENT OF ENERGY

Federal Energy Regulatory Commission

[ Docket No. RP00-426-017]

Texas Gas Transmission, LLC; Notice of Negotiated Rate Agreement

January 7, 2004.

Take notice that on January 5, 2004, Texas Gas Transmission, LLC (Texas Gas), submitted for filing a Negotiated Rate Agreement with Indiana Utilities Corporation (IUC).

Texas Gas states that the purpose of this filing is to file a copy of a Negotiated Rate Agreement between Texas Gas and IUC establishing negotiated rates applicable to transportation under its Small Customer General Transportation (SGT) service agreement.

Texas Gas states that this Negotiated Rate Agreement is being submitted in compliance with “Section 38. Negotiated Rates” of the General Terms and Conditions (GT&C) of Texas Gas's FERC Gas Tariff, Second Revised No. 1, and the Commission's modified policy on negotiated rates (104 FERC ¶ 61,134 (2003)).

Texas Gas states that copies of this filing are being mailed to all parties on the official service list in this docket, to Texas Gas's official service list, to Texas Gas's jurisdictional customers, and to interested state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-56 Filed 01-14-04; 8:45 am]

BILLING CODE 6717-01-P